DEPARTMENT OF ENERGY

Federal Energy Regulatory Commission

Notice of Intention To Hold Public Meetings To Discuss the Draft Environmental Impact Statement for the Stanislaus River Hydropower Projects

October 18, 2004.

Tri-Dam Project [Project Nos. 2005-012 and 2067-020—California]

Pacific Gas and Electric Company [Project Nos. 2130-033 and 2118-007—California]

On September 30, 2004, the Commission staff mailed the Stanislaus River Projects Draft Environmental Impact Statement (DEIS) to the Environmental Protection Agency, resource and land management agencies, and interested organizations and individuals.

The DEIS was noticed in the Federal Register on October 8, 2004, and comments are due December 7, 2004. The DEIS evaluates the environmental consequences of the construction, operation, and maintenance of the Stanislaus River Projects in California. The DEIS also evaluates the environmental effects of implementing the applicant's proposals, agency and NGO recommendations, staff's recommendations, and the no-action alternative. All of the Beardsley/Donnells Project, most of the Spring Gap-Stanislaus Project, and all of the Donnell-Curtis Transmission Line Project are located within the Stanislaus National Forest.

Two public meetings are scheduled for Tuesday, November 16, 2004, from 2 p.m. to 4 p.m. (PST) and 6:30 p.m. to 8:30 p.m. (PST) at the Best Western Sonora Oaks Conference Center, 19551 Hess Ave, Sonora, CA 95370. At these meetings, resource agency personnel and other interested persons will have the opportunity to provide oral and written comments and recommendations regarding the DEIS for the Commission's public record. These meetings will be recorded by an official stenographer.

For further information, please contact Susan O'Brien at (202) 502-8449, or by e-mail at susan.obrien@ferc.gov.

Magalie R. Salas,
Secretary .

[FR Doc. E4-2830 Filed 10-22-04; 8:45 am]

BILLING CODE 6717-01-P